COMMITTEE FOR PURCHASE FROM PEOPLE WHO ARE BLIND OR SEVERELY DISABLED

Procurement List; Additions and Deletions

AGENCY: Committee for Purchase From People Who Are Blind or Severely Disabled.

ACTION: Additions to and Deletions from the Procurement List.

SUMMARY: This action adds service(s) to the Procurement List that will be furnished by nonprofit agencies employing persons who are blind or have other severe disabilities, and deletes product(s) and service(s) from the Procurement List previously furnished by such agencies.

DATES: Date added to and deleted from the Procurement List: April 11, 2021.

ADDRESSES: Committee for Purchase From People Who Are Blind or Severely Disabled, 1401 S. Clark Street, Suite 715, Arlington, Virginia, 22202-4149.

FOR FURTHER INFORMATION CONTACT: Michael R. Jurkowski, Telephone: (703) 603-2117, Fax: (703) 603-0655, or email CMTEFedReg@AbilityOne.gov.

SUPPLEMENTARY INFORMATION:

Additions

On 6/5/2020, the Committee for Purchase From People Who Are Blind or Severely Disabled published notice of proposed additions to the Procurement List. This notice is published pursuant to 41 U.S.C. 8503 (a)(2) and 41 CFR 51-2.3.

After consideration of the material presented to it concerning capability of qualified nonprofit agencies to provide the service(s) and impact of the additions on the current or most recent contractors, the Committee has determined that the service(s) listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the service(s) to the Government.

2. The action will result in authorizing small entities to furnish the service(s) to the Government.

3. There are no known regulatory alternatives which would accomplish the objectives of the Javits-Wagner-O'Day Act (41 U.S.C. 8501-8506) in connection with the service(s) proposed for addition to the Procurement List.

End of Certification

Accordingly, the following service(s) are added to the Procurement List:

Service(s)

Service Type: Custodial Service

Mandatory for: US Air Force, USAF Space Command (AFSPC), Peterson Air Force Base and Cheyenne Mountain Air Force Station, Colorado Springs, CO

Designated Source of Supply Professional Contract Services, Inc., Austin, TX

Contracting Activity: FA2517 21 CONS, PETERSON AFB, CO

The Committee finds good cause to dispense with the 30-day delay in the effective date normally required by the Administrative Procedure Act. See U.S.C. 553(d)(3). This addition to the Committee's Procurement List is effectuated because of the expiration of the U.S. Air Force Custodial Service, Peterson Air Force Base and Cheyenne Mountain Air Force Station, CO. The federal customer contacted, and has worked diligently with the AbilityOne Program to fulfill this Service need under the AbilityOne Program. To avoid performance disruption, and the possibility that the U.S. Air Force will refer its business elsewhere, this addition must be effective on March 28, 2021, to ensure lead times that are required by the U.S. Air Force for start-up to make a smooth transition for continuity of services while still allowing 17 days for comment. Pursuant to its own regulation, 41 C.F.R § 51-2.4, the Committee determined that no adverse impact exists on the current contractor. The Committee also published a notice of proposed Procurement List addition in the Federal Register on June 5, 2020, and did not receive any comments from any interested persons, including from the incumbent contractor. The addition will not create a public hardship and has limited effect on the public at large, but rather, will create new jobs for other affected parties—people with significant disabilities in the AbilityOne Program who otherwise face challenges locating employment. Moreover, this addition will enable Federal customer operations to continue without interruption.

Deletions

On 2/5/2021, the Committee for Purchase From People Who Are Blind or Severely Disabled published notice of proposed deletions from the Procurement List. This notice is published pursuant to 41 U.S.C. 8503 (a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List:

Product(s)

NSN(s)—Product Name(s):

8415-01-538-6057—Wind Jacket, ECWCS Gen III, Layer IV, U.S. Army, Universal Camouflage, Small/Regular

8415-01-538-6067—Wind Jacket, ECWCS Gen III, Layer IV, U.S. Army, Universal Camouflage, Medium/Regular

8415-01-538-6074—Wind Jacket, ECWCS Gen III, Layer IV, U.S. Army, Universal Camouflage, Large/Regular

8415-01-538-6080—Wind Jacket, ECWCS Gen III, Layer IV, U.S. Army, Universal Camouflage, X-Large/Regular

8415-01-546-8657—Wind Jacket, ECWCS Gen III, Layer IV, U.S. Army, Universal Camouflage, X-Small/Short

8415-01-546-8667—Wind Jacket, ECWCS Gen III, Layer IV, U.S. Army, Universal Camouflage, X-Small/Regular

8415-01-546-8745—Wind Jacket, ECWCS Gen III, Layer IV, U.S. Army, Universal Camouflage, Small/Short

8415-01-546-8758—Wind Jacket, ECWCS Gen III, Layer IV, U.S. Army, Universal Camouflage, Small/Long

8415-01-546-8809—Wind Jacket, ECWCS Gen III, Layer IV, U.S. Army, Universal Camouflage, Medium/Long

8415-01-546-8820—Wind Jacket, ECWCS Gen III, Layer IV, U.S. Army, Universal Camouflage, X-Large/X-Long

8415-01-546-8828—Wind Jacket, ECWCS Gen III, Layer IV, U.S. Army, Universal Camouflage, XX-Large/Regular

8415-01-546-8829—Wind Jacket, ECWCS Gen III, Layer IV, U.S. Army, Universal Camouflage, XX-Large/Long

8415-01-546-8834—Wind Jacket, ECWCS Gen III, Layer IV, U.S. Army, Universal Camouflage, XX-Large/X-Long

Mandatory Source of Supply: Blind Industries & Services of Maryland, Baltimore, MD

Contracting Activity: DLA TROOP SUPPORT, PHILADELPHIA, PA

NSN(s)—Product Name(s):

8415-01-538-6082—Wind Jacket, ECWCS Gen III, Layer IV, U.S. Army, Universal Camouflage, Large/Long

8415-01-538-6089—Wind Jacket, ECWCS Gen III, Layer IV, U.S. Army, Universal Camouflage, X-Large/Long

8415-01-580-0702—Wind Jacket, ECWCS Gen III, Layer IV, U.S. Army, OEFCP, X-Small-Short

8415-01-580-0706—Wind Jacket, ECWCS Gen III, Layer IV, U.S. Army, OEFCP, X-Small-Regular

8415-01-580-0713—Wind Jacket, ECWCS Gen III, Layer IV, U.S. Army, OEFCP, Small-Short

8415-01-580-0724—Wind Jacket, ECWCS Gen III, Layer IV, U.S. Army, OEFCP, Small-Regular

8415-01-580-0728—Wind Jacket, ECWCS Gen III, Layer IV, U.S. Army, OEFCP, Small-Long

8415-01-580-0730—Wind Jacket, ECWCS Gen III, Layer IV, U.S. Army, OEFCP, Medium-Regular

8415-01-580-0733—Wind Jacket, ECWCS Gen III, Layer IV, U.S. Army, OEFCP, Medium-Long

8415-01-580-0744—Wind Jacket, ECWCS Gen III, Layer IV, U.S. Army, OEFCP, Large-Regular

8415-01-580-0751—Wind Jacket, ECWCS Gen III, Layer IV, U.S. Army, OEFCP, Large-Long

8415-01-580-0754—Wind Jacket, ECWCS Gen III, Layer IV, U.S. Army, OEFCP, X-Large-Regular

8415-01-580-0759—Wind Jacket, ECWCS Gen III, Layer IV, U.S. Army, OEFCP, X-Large-Long

8415-01-580-0760—Wind Jacket, ECWCS Gen III, Layer IV, U.S. Army, OEFCP, X-Large-X-Long

8415-01-580-0925—Wind Jacket, ECWCS Gen III, Layer IV, U.S. Army, OEFCP, XX-Large-Regular

8415-01-580-0936—Wind Jacket, ECWCS Gen III, Layer IV, U.S. Army, OEFCP, XX-Large-Long

8415-01-580-0941—Wind Jacket, ECWCS Gen III, Layer IV, U.S. Army, OEFCP, XX-Large-X-Long

Mandatory Source of Supply: Blind Industries & Services of Maryland, Baltimore, MD

Contracting Activity: DLA TROOP SUPPORT, PHILADELPHIA, PA

NSN(s)—Product Name(s):

MR 1104—Pop Up Mesh Hamper

MR 11063—Grocery Shopping Tote Bag, Collapsible

Designated Source of Supply: Industries for the Blind and Visually Impaired, Inc., West Allis, WI

Contracting Activity: Military Resale-Defense Commissary Agency

NSN(s)—Product Name(s):

MR 1069—Mop, Ratchet, Twist Action, Microfiber

MR 1079—Refill, Mop, Ratchet, Twist Action, Microfiber

Designated Source of Supply: LC Industries, Inc., Durham, NC

Contracting Activity: Military Resale-Defense Commissary Agency

NSN(s)—Product Name(s):

7520-01-622-7154—Portable Desktop Clipboard, 10″ W x 2-3/5″ D x 16″ H, Army Green

7520-01-622-7155—Portable Desktop Clipboard with Calculator, 10″ W x 2-3/5″ D x 16″ H, Blue

7520-01-622-7157—Portable Desktop Clipboard with Calculator, 10″ W x 2-3/5″ D x 16″ H, Black

Designated Source of Supply: LC Industries, Inc., Durham, NC

Contracting Activity: GSA/FAS ADMIN SVCS ACQUISITION BR(2, NEW YORK, NY

NSN(s)—Product Name(s):

7510-01-600-5977—Toner Cartridge, Laser, Double Yield, Compatible w/Lexmark T640/T642/T644 Series Printers

Designated Source of Supply: TRI Industries NFP, Vernon Hills, IL

Contracting Activity: GSA/FAS ADMIN SVCS ACQUISITION BR(2, NEW YORK, NY

NSN(s)—Product Name(s):

5340-00-137-7767—Strap Assembly, 1″ x 67″

Designated Source of Supply: Cambria County Association for the Blind and Handicapped, Johnstown, PA

Contracting Activity: DLA TROOP SUPPORT, PHILADELPHIA, PA

NSN(s)—Product Name(s):

MR 3226—Fashion Claw Clip Rectangular

MR 3230—So Gelous Paddle Brush

MR 3239—Curl Contour Clips

Designated Source of Supply: Association for Vision Rehabilitation and Employment, Inc., Binghamton, NY

Contracting Activity: Military Resale-Defense Commissary Agency

NSN(s)—Product Name(s):

3990-00-NSH-0075—Pallet, Demolition Testing, 24″ x 48″

Contracting Activity: W4MM USA JOINT MUNITIONS CMD, ROCK ISLAND, IL

Service(s)

Service Type: Administrative/General Support Services

Mandatory for: GSA, Southwest Supply Center: 819 Taylor Street, Fort Worth, TX

Designated Source of Supply: Beacon Lighthouse, Inc., Wichita Falls, TX

Contracting Activity: GENERAL SERVICES ADMINISTRATION, FPDS AGENCY COORDINATOR

Service Type: Reproduction Service

Mandatory for: Fort Ord, Fort Ord, CA

Designated Source of Supply: Beacon Lighthouse, Inc., Wichita Falls, TX

Contracting Activity: DEPT OF THE ARMY, W40M RHCO-ATLANTIC USAHCA

Service Type: Data Entry

Mandatory for: U.S. Department of Housing and Urban Development: 40 Marietta Street NW, 14th Floor, Atlanta, GA

Designated Source of Supply: Vision Rehabilitation Services of Georgia, Inc., Smyrna, GA

Contracting Activity: HOUSING AND URBAN DEVELOPMENT, DEPARTMENT OF, DEPT OF HOUSING AND URBAN DEVELOPMENT

Michael R. Jurkowski,
Deputy Director, Business & PL Operations.

[FR Doc. 2021-05210 Filed 3-11-21; 8:45 am]

BILLING CODE 6353-01-P